DEPARTMENT OF TRANSPORTATION

Federal Highway Administration

Notice of Final Federal Agency Actions on the Interstate 81 Viaduct Project, Onondaga County, New York

AGENCY: Federal Highway Administration (FHWA), DOT.

ACTION: Notice.

SUMMARY: This notice announces the extension of the judicial review time period for claims relating to the Interstate 81 Viaduct Project located in Onondaga County, New York.

DATES: A claim seeking judicial review of the Federal agency actions on the highway project will be barred unless the claim is filed on or before November 21, 2022. If the Federal law that authorizes judicial review of a claim provides a time period of less than 150 days for filing such claim, then that shorter time period still applies.

FOR FURTHER INFORMATION CONTACT: Richard J. Marquis, Division Administrator, Federal Highway Administration, Leo W. O'Brien Federal Building, 11A Clinton Avenue, Suite 719, Albany, New York 12207, Telephone (518) 431-4127.

SUPPLEMENTARY INFORMATION: On June 3, 2022, at 87 FR 33872, FHWA published a Statute of Limitations Notice for the Interstate 81 Viaduct Project, Onondaga County, New York. This notice extends the judicial review time period from October 31, 2022, to November 21, 2022, as a result of publishing an addendum to the Record of Decision (ROD) containing responses to comments inadvertently omitted from the original publication. The FEIS, ROD, and other documents in the FHWA administrative record files are available by contacting FHWA at the address provided above. The FEIS and ROD can also be viewed and downloaded from the project website at: https://webapps.dot.ny.gov/i-81-viaduct-project.

(Catalog of Federal Domestic Assistance Program Number 20.205, Highway Planning and Construction. The regulations implementing Executive Order 12372 regarding intergovernmental consultation on Federal programs and activities apply to this program.)

Authority: 23 U.S.C. 139(l)(1)

Issued on: July 25, 2022.
Richard J. Marquis,
Division Administrator, Albany, NY.

[FR Doc. 2022-16191 Filed 7-27-22; 8:45 am]

BILLING CODE 4910-RY-P